DEPARTMENT OF JUSTICE

Drug Enforcement Administration

Agency Information Collection Activities: Proposed Collection; Comment Request

ACTION: 30-Day Notice of Information Collection Under Review: Extension of a currently approved collection; Registrants Inventory of Drugs Surrendered—DEA Form 41.

The Department of Justice (DOJ), Drug Enforcement Administration (DEA), has submitted the following information collection request to the Office of Management and Budget OMB) for review and approval in accordance with the Paperwork Reduction Act of 1995. The proposed information collection is published to obtain comments from the public and affected agencies. This proposed information collection was previously published in the Federal Register Volume 66, Number 182, page 48274 on September, allowing for a 60 day comment period.

The purpose of this notice is to allow for an additional 30 days for public comment until December 24, 2001. This process is conducted in accordance with 5 CFR 1320.10.

Written comments and/or suggestions regarding the items contained in this notice, especially the estimated public burden and associated response time, should be directed to The Office of Management and Budget, Office of Information and Regulatory Affairs, Attention Department of Justice Desk Officer, Washington, Washington, DC 20503. Additionally, comments may be submitted to OMB via facsimile to (202) 395-7285.

Written comments and/or suggestions from the public and affected agencies concerning the proposed collection of information should address one or more of the following four points:

(1) Evaluate whether the proposed collection of information is necessary for the proper performance of the function of the agency, including whether the information will have practical utility;

(2) Evaluate the accuracy of the agency's estimate of the burden of the proposed collection of information, including the validity of the methodology and assumptions used;

(3) Enhance the accuracy of the agency's estimate of the burden of the proposed collection of information, including the validity of the methodology and assumptions used;

(4) Minimize the burden of the collection of information on those who are to respond, including through the use of appropriate automated, electronic, mechanical, or other technological collection techniques or other forms of information technology, e.g., permitting electronic submission of responses.

Overview of this information collection:

(1) Type of information collection: Extension of a currently approved collection.

(2) The title of the form/collection: Registrants Inventory of Drugs Surrendered—DEA 41.

(3) The agency form number, if any, and the applicable component of the Department sponsoring the collection: Form No.: DEA-41. Office of Diversion Control, Drug Enforcement Administration, U.S. Department of Justice.

(4) Affected public who will be asked or required to respond, as well as a brief abstract: Primary: Business or other for-profit. Other: None. Title 21, CFR, 1307.21 requires that any registrant desiring to voluntarily dispose of controlled substances shall list these controlled substances on DEA Form 41 and submit to the nearest DEA office. The DEA 41 is used to account for surrendered destroyed controlled substances, and its use is mandatory.

(5) An estimate of the total number of respondents and the amount of time estimated for an average respondent to respond/reply: 20,000 respondents with an average 30 minutes per response.

(6) An estimate of the total public burden (in hours) associated with the collection: 10,000 annual burden hours.

DEA wishes to note that the language of the DEA Form 41 is being changed to reflect DEA policy that controlled substances are no longer accepted by DEA field offices for destruction. Inquiries regarding destruction of controlled substances may be made to DEA field offices.

If additional information is required contact: Mr. Robert B. Briggs, Clearance Officer, United States Department of Justice, Information Management and Security Staff, Justice Management, Division United States Department of Justice, Patrick Henry Building, Suite 1600, 601 D Street NW., Washington, DC 20004.

Dated: November 19, 2001.
Robert B. Briggs,
Department Clearance Officer, United States Department of Justice.

[FR Doc. 01-29288 Filed 11-21-01; 8:45 am]

BILLING CODE 4410-09-M